DEPARTMENT OF EDUCATION

[Docket No. ED-2013-ICCD-0090]

Agency Information Collection Activities; Submission to the Office of Management and Budget for Review and Approval; Comment Request; Implementation of Title I/II Program Initiatives

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before October 31, 2013.

ADDRESSES: Comments submitted in response to this notice should be submitted electronically through the Federal eRulemaking Portal at http://www.regulations.gov by selecting Docket ID number ED-2013-ICCD-0090 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 2E105, Washington, DC 20202-4537.

FOR FURTHER INFORMATION CONTACT: For questions related to collection activities or burden, please call Kathy Axt, 540-776-7742 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Implementation of Title I/II Program Initiatives.

OMB Control Number: 1850-NEW.

Type of Review: A new collection.

Respondents/Affected Public: State, Local, or Tribal Governments.

Total Estimated Number of Annual Responses: 12,321.

Total Estimated Number of Annual Burden Hours: 6,573.

Abstract: The Implementation of Title I/II Program Initiatives study will examine the implementation of policies promoted through the Elementary and Secondary Education Act (ESEA) at the state, district and school levels, in four core areas: state content standards, aligned assessments, accountability and school turnaround, and development of effective teachers and leaders.

The purpose of this new data collection is to provide policy makers with detailed information on the progress being made on the core policies promoted by Title I and Title II, and the recent granting of ESEA Flexibility to states. Although other research studies cover similar topics on recent federal education policy, the breadth of research questions and the depth of responses from all SEAs and three levels of nationally representative samples, sets the Title I/II study apart from other studies.

This study will rely on information collected from existing sources, for which there are no respondents or burden, and on a new set of surveys in order to address the study's research questions. Extant data sources include (a) the National Assessment of Educational Progress (NAEP); (b) EDFacts data; (c) information about teacher preparation and certification programs and policies; and (d) state documents.

The new surveys of states and districts will begin in 2013 and the surveys of schools (principals) and teachers will begin in 2014. All respondents will have the opportunity to complete an electronic (email or web-based) survey (or paper survey, if preferred). The survey respondents are described briefly below.

State Surveys. The state survey will be sent to the chief state school officer in each of the 50 states and the District of Columbia. The state surveys will be administered using an electronic instrument divided into modules corresponding to the four core areas.

District Surveys. The district survey will be sent to school superintendents from a nationally representative sample of 570 school districts. The district survey will be web-based and modularized, corresponding to the four core areas, to allow for completion by one or multiple respondents.

School Surveys. The school survey will be sent to principals from a nationally representative sample of 1,300 schools. The school survey will be web-based and address issues in the four core areas.

Teacher Surveys. The teacher survey will be sent to a nationally representative sample of teachers selected from the sampled schools. A total of 9,100 teachers will be asked to complete a web-based survey that addresses issues in the four core areas.

Teacher Rosters. Principals from sampled schools will be asked to provide a comprehensive list of teachers in their schools, which will be used as the sampling frame for the teacher sample. Principals will be asked to identify their school's grade span and list all teachers along with their email address, main grade, subjects taught, (e.g., Reading/English/Language Arts, Mathematics, Science and Other), and whether the teacher teaches a class in which students are tested for accountability requirements under ESEA.

Dated: September 25, 2013.
Stephanie Valentine,
Acting Director, Information Collection Clearance Division, Privacy, Information and Records Management Services, Office of Management.

[FR Doc. 2013-23799 Filed 9-30-13; 8:45 am]

BILLING CODE 4000-01-P